SMALL BUSINESS ADMINISTRATION

[Declaration of Disaster #3394]

State of Oklahoma

Amendment #1

In accordance with information received from the Federal Emergency Management Agency, dated February 11, 2002, the above numbered declaration is hereby amended to establish the incident period for this disaster as beginning on January 30, 2002, and continuing through February 11, 2002.

All other information remains the same, i.e., the deadline for filing applications for economic injury is November 1, 2002.

(Catalog of Federal Domestic Assistance Program Nos. 59002 and 59008.)
Dated: February 13, 2002.
Herbert L. Mitchell,
Associate Administrator for Disaster Assistance.

[FR Doc. 02-4104 Filed 2-20-02; 8:45 am]

BILLING CODE 8025-01-P